DEPARTMENT OF COMMERCE

International Trade Administration

(A-557-809)

Stainless Steel Butt-Weld Pipe Fittings From Malaysia: Notice of Partial Rescission of Antidumping Duty Administrative Review

AGENCY: Import Administration, International Trade Administration, Department of Commerce.

EFFECTIVE DATE: July 12, 2006.

FOR FURTHER INFORMATION CONTACT: Zev Primor or Mark Manning, AD/CVD Operations, Office 4, Import Administration, International Trade Administration, U.S. Department of Commerce, 14th Street and Constitution Avenue, NW, Washington, DC 20230; telephone: (202) 482-4114 or (202) 482-5253, respectively.

SUPPLEMENTARY INFORMATION:

Background

On February 1, 2006, the Department of Commerce (the Department) published in the Federal Register a notice of “Opportunity To Request Administrative Review” of the antidumping duty order on stainless steel butt-weld pipe fittings from Malaysia for the period February 1, 2005, through January 31, 2006. See Antidumping or Countervailing Duty Order, Finding, or Suspended Investigation; Opportunity To Request Administrative Review, 71 FR 5239 (February 1, 2006). On February 28, 2006, Sapura-Schulz Hydroforming Sdn. Bhd. (Sapura-Schulz), requested an administrative review of its sales for the above-mentioned period. In addition, on February 28, 2006, the petitioners¹ requested an administrative review of the sales for the above-mentioned period made by Kanzen Tetsu Sdn. Bhd. (Kanzen) and Sapura-Schulz. On April 5, 2006, the Department published a notice of initiation of an administrative review of the antidumping duty order on stainless steel butt-weld pipe fittings from Malaysia with respect to Sapura-Schulz and Kanzen. See Initiation of Antidumping and Countervailing Duty Administrative Reviews and Deferral of Administrative Reviews, 71 FR 25145 (April 5, 2006).

¹ The petitioners in this segment of the proceeding are: Flowline Division of Markovitz Enterprises, Inc.; Gerlin, Inc.; Shaw Alloy Piping products, Inc.; and Taylor Forge Stainless, Inc. (collectively, the petitioners).

Partial Rescission of Review

On June 19, 2006, Sapura-Schulz and the petitioners simultaneously withdrew their requests for an administrative review of the sales made by Sapura-Schulz during the above-referenced period. Section 351.213(d)(1) of the Department's regulations requires that the Secretary rescind an administrative review if a party requesting a review withdraws the request within 90 days of the date of publication of the notice of initiation. In this case, Sapura-Schulz and the petitioners have withdrawn their requests for review within the 90-day period. We have received no other submissions regarding the withdrawals of the requests for review. Therefore, we are rescinding in part this review of the antidumping duty order on stainless steel butt-weld pipe fittings from Malaysia with respect to Sapura-Schulz. This review will continue with respect to Kanzen.

This notice is published in accordance with section 751 of the Tariff Act of 1930, as amended, and 19 CFR 351.213(d)(4).

Dated: July 6, 2006.
Stephen J. Claeys,
Deputy Assistant Secretary for Import Administration.

[FR Doc. E6-10951 Filed 7-11-06; 8:45 am]

BILLING CODE 3510-DS-S